DEPARTMENT OF VETERANS AFFAIRS

[OMB Control No. 2900-0045]

Agency Information Collection: VA Request for Determination of Reasonable Value

AGENCY: Veterans Benefits Administration, Department of Veterans Affairs.

ACTION: Notice.

SUMMARY: In compliance with the Paperwork Reduction Act (PRA) of 1995, this notice announces that the Veterans Benefits Administration (VBA), Department of Veterans Affairs, will submit the collection of information abstracted below to the Office of Management and Budget (OMB) for review and comment. The PRA submission describes the nature of the information collection and its expected cost and burden; it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0045.

FOR FURTHER INFORMATION CONTACT: Maribel Aponte, Office of Enterprise and Integration, Data Governance Analytics (008), 1717 H Street NW, Washington, DC 20006, (202) 266-4688 or email maribel.aponte@va.gov. Please refer to “OMB Control No. 2900-0045” in any correspondence.

SUPPLEMENTARY INFORMATION:

Authority: 44 U.S.C. 3501-3521.

Title: VA Request for Determination of Reasonable Value (VA Forms 26-1805, and 26-1805-1).

OMB Control Number: 2900-0045.

Type of Review: Revision of a currently approved collection.

Abstract: VA utilizes Form 26-1805 (paper form) and 26-1805-1 (digital form) for lenders to request an appraisal and assign an appraiser (i.e., “ordering” an appraisal), which ultimately provides the appraiser with the authority to be on the property to conduct the appraisal (i.e., an engagement letter). This information collection request seeks to expand this data collection clearance to encompass a modernized, end-to-end appraisal management process. Under this revised ICR, VA will not only capture information from lenders around when an appraisal has been ordered (current VA Form 26-1805), but will also capture information and workflow associated with the assignment, scheduling, and review of an appraisal by VA or a lender. This new process will be consistent with the rest of the mortgage industry and will align VA's appraisal process with the industry standard.

An agency may not conduct or sponsor, and a person is not required to respond to a collection of information unless it displays a currently valid OMB control number. The Federal Register Notice with a 60-day comment period soliciting comments on this collection of information was published at 86 FR 40679 on July 28, 2021, pages 40679 and 40680.

Affected Public: Individuals or households.

Estimated Annual Burden: 585,000 hours.

Estimated Average Burden per Respondent: 57 minutes.

Frequency of Response: One-time.

Estimated Number of Respondents: 650,000.

By direction of the Secretary.
Dorothy Glasgow,
VA PRA Clearance Officer, Alt., Office of Enterprise and Integration, Data Governance Analytics, Department of Veterans Affairs.

[FR Doc. 2021-21507 Filed 10-1-21; 8:45 am]

BILLING CODE 8320-01-P